DEPARTMENT OF ENERGY

Federal Energy Regulatory Commission

[Docket No. EL18-178-000]

PJM Interconnection, L.L.C.; Notice of Institution of Section 206 Proceeding and Refund Effective Date

On June 29, 2018, the Commission instituted a proceeding in Docket No. EL18-178-000, pursuant to section 206 of the Federal Power Act (FPA), 16 U.S.C. 824e (2012), to determine the just and reasonable replacement rate, based on its finding that PJM Interconnection, L.L.C.'s currently effective Open Access Transmission Tariff is unjust, unreasonable, and unduly discriminatory or preferential. Calpine Corporation v. PJM Interconnection, L.L.C., 163 FERC ¶ 61,236 (2018).

The refund effective date in Docket No. EL18-178-000, established pursuant to section 206(b) of the FPA, will be the date of publication of this notice in the Federal Register.

Any interested person desiring to be heard in Docket No. EL18-178-000 must file a notice of intervention or motion to intervene, as appropriate, with the Federal Energy Regulatory Commission, 888 First Street NE, Washington, DC 20426, in accordance with Rule 214 of the Commission's Rules of Practice and Procedure, 18 CFR 385.214, within 21 days of the date of issuance of the order.

Dated: July 2, 2018.
Kimberly D. Bose,
Secretary.

[FR Doc. 2018-14772 Filed 7-10-18; 8:45 am]

BILLING CODE P